FEDERAL COMMUNICATIONS COMMISSION

47 CFR Part 73

[DA 00-541, MM Docket No. 99-163, RM-9595]

Radio Broadcasting Services; Jackpot, NV

AGENCY: Federal Communications Commission.

ACTION: Proposed rule; denial of.

SUMMARY: The Commission denies the request of Mountain West Broadcasting to allot Channel 287C1 to Jackpot, NV, as its first local aural service for failure to provide sufficient information to demonstrate that it is a community for allotment purposes. See 64 FR 2842, May 26, 1999. With this action, this proceeding is terminated.

ADDRESSES: Federal Communications Commission, 445 12th Street, S.W., Washington, DC 20554.

FOR FURTHER INFORMATION CONTACT: Leslie K. Shapiro, Mass Media Bureau, (202) 418-2180.

SUPPLEMENTARY INFORMATION: This is a synopsis of the Commission's Report and Order, MM Docket No. 99-163, adopted March 1, 2000, and released March 10, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

List of Subjects in 47 CFR Part 73

Radio broadcasting.

Federal Communications Commission.
John A. Karousos,
Chief, Allocations Branch, Policy and Rules Division, Mass Media Bureau.

[FR Doc. 00-7257 Filed 3-23-00; 8:45 am]

BILLING CODE 6712-01-P